DEPARTMENT OF AGRICULTURE

Animal and Plant Health Inspection Service

9 CFR Parts 71, 77, 78, and 86

[Docket No. APHIS-2021-0020]

RIN 0579-AE64

Use of Electronic Identification Eartags as Official Identification in Cattle and Bison

AGENCY: Animal and Plant Health Inspection Service, USDA.

ACTION: Proposed rule; extension of comment period.

SUMMARY: We are extending the comment period for our proposed rule that would amend the animal disease traceability regulations. The proposed rule would require that eartags applied on or after a date 6 months (180 days) after publication in the Federal Register of a final rule following the proposed rule to be both visually and electronically readable in order to be recognized for use as official eartags for interstate movement of cattle and bison covered under the regulations. We also proposed to clarify certain record retention and record access requirements and revise some requirements pertaining to slaughter cattle. This action will allow interested persons additional time to prepare and submit comments.

DATES: The comment period for the proposed rule published on January 19, 2023 (88 FR 3320) is extended. We will consider all comments that we receive on or before April 19, 2023.

ADDRESSES: You may submit comments by either of the following methods: Federal eRulemaking Portal: Go to www.regulations.gov. Enter APHIS-2021-0020 in the Search field. Select the Documents tab, then select the Comment button in the list of documents.

• Postal Mail/Commercial Delivery: Send your comment to Docket No. APHIS-2021-0020, Regulatory Analysis and Development, PPD, APHIS, Station 3A-03.8, 4700 River Road, Unit 118, Riverdale, MD 20737-1238.

Supporting documents and any comments we receive on this docket may be viewed at Regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Aaron Scott, Director, National Animal Disease Traceability and Veterinary Accreditation Center, Strategy & Policy, Veterinary Services, APHIS, 2150 Centre Ave., Fort Collins, CO 80526; traceability@usda.gov; (970) 494-7249

SUPPLEMENTARY INFORMATION: On January 19, 2023, we published in the Federal Register (88 FR 3320, Docket No. APHIS-2021-0020) a proposed rule ¹ that would require that eartags applied on or after a date 6 months (180 days) after publication in the Federal Register of a final rule following the proposed rule to be both visually and electronically readable in order to be recognized for use as official eartags for interstate movement of cattle and bison covered under the regulations. We also proposed to clarify certain record retention and record access requirements and revise some requirements pertaining to slaughter cattle.

¹ To view the proposed rule, supporting documents, and public comments, go to www.regulations.gov. Enter APHIS-2021-0020 in the Search field.

Comments on the proposed rule were required to be received on or before March 20, 2023. We are extending the comment period on Docket No. APHIS-2021-0020 until April 19, 2023. This action will allow interested persons additional time to prepare and submit comments.

Authority: 7 U.S.C. 8301-8317; 7 CFR 2.22, 2.80, and 371.4.

Done in Washington, DC, this 14th day of March, 2023.
Michael Watson,
Acting Administrator, Animal and Plant Health Inspection Service.

[FR Doc. 2023-05575 Filed 3-17-23; 8:45 am]

BILLING CODE 3410-34-P